DEPARTMENT OF COMMERCE

International Trade Administration

Meeting of the United States Travel and Tourism Advisory Board

AGENCY: International Trade Administration, U.S. Department of Commerce.

ACTION: Notice of an open meeting.

SUMMARY: This notice sets forth the schedule and agenda for an open meeting of the United States Travel and Tourism Advisory Board (Board). The agenda may change to accommodate Board business. The final agenda will be posted on the Department of Commerce Web site for the Board at http://tinet.ita.doc.gov/TTAB/TTAB_Home.html, at least one week in advance of the meeting.

DATES: April 23, 2012, 9 a.m.-11 a.m. Pacific Daylight Time (PDT).

ADDRESSES: The meeting will be held at the Los Angeles Convention Center, 1201 South Figueroa Street, Los Angeles, California. The room number will be posted on the Board Web site (http://tinet.ita.doc.gov/TTAB/TTAB_Home.html) at least one week in advance of the meeting.

FOR FURTHER INFORMATION CONTACT: Jennifer Pilat, the United States Travel and Tourism Advisory Board, Room 4043, 1401 Constitution Avenue NW., Washington, DC 20230, telephone: 202-482-4501, email: jennifer.pilat@trade.gov.

SUPPLEMENTARY INFORMATION: Background: The Board was re-chartered in August 2011, to advise the Secretary of Commerce on matters relating to the U.S. travel and tourism industries.

Topics to be considered: This will be the first meeting of the Board since these members were appointed in January. During the meeting, the Board will discuss the work it intends to take on during this charter term and will likely make recommendations on the subcommittees needed to undertake that work. Representatives from the Departments of State, the Interior and Transportation will provide updates on their respective agencies' work relating to the U.S. travel and tourism industries and the Board will be provided an update on the work of the Task Force on Travel and Competitiveness (created by E.O. 13597, Establishing Visa and Foreign Visitor Processing Goals and the Task Force on Travel and Competitiveness, 77 FR 3373).

Public Participation: The meeting will be open to the public and will be physically accessible to people with disabilities. Seating is limited and will be on a first come, first served basis. Because of building security and logistics, all attendees must pre-register no later than 5 p.m. Eastern Daylight Time (EDT) on Friday, April 13, 2012 with Jennifer Pilat, the United States Travel and Tourism Advisory Board, Room 4043, 1401 Constitution Avenue NW., Washington, DC 20230, telephone 202-482-4501, oacie@trade.gov. Please specify any requests for sign language interpretation, other auxiliary aids, or other reasonable accommodation no later than 5 p.m. EDT on April 13, 2012, to Jennifer Pilat at the contact information above. Last minute requests will be accepted, but may be impossible to fill.

No time will be available for oral comments from members of the public attending the meeting. Any member of the public may submit pertinent written comments concerning the Board's affairs at any time before or after the meeting. Comments may be submitted to Jennifer Pilat at the contact information indicated above. To be considered during the meeting, comments must be received no later than 5 p.m. EDT on April 13, 2012, to ensure transmission to the Board prior to the meeting. Comments received after that date will be distributed to the members but may not be considered at the meeting. Copies of Board meeting minutes will be available within 90 days of the meeting.

Dated: March 28, 2012.
Jennifer Pilat,
Executive Secretary, United States Travel and Tourism Advisory Board.

[FR Doc. 2012-7974 Filed 4-2-12; 8:45 am]

BILLING CODE 3510-DR-P